DEPARTMENT OF THE INTERIOR

Bureau of Land Management

[WO-320-1320-PB-24 1A]

Submission to Office of Management and Budget—Information Collection, OMB Control Number 1004-0073

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by February 20, 2007, to receive maximum consideration.

ADDRESSES: Send comments to the OMB, Interior Department Desk Officer (1004-0073), at OMB-OIRA e-mail OIRA_DOCKET@omb.eop.gov or via facsimile at (202) 395-6566. Also please send a copy of your comments to BLM via Internet and include your name, address, and ATTN: 1004-0073 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshir to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On March 6, 2006, the BLM published a notice in the Federal Register (71 FR 11221) requesting comments on the information collection. The comment period closed on May 5, 2006. The BLM did not receive any comments. We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Coal Management (43 CFR part 3400).

OMB Control Number: 1004-0073.

Abstract: The BLM manages the leasing and development of Federal coal under the regulations at 43 CFR Group 3400. These regulations implement numerous statutes including:

(1) The Mineral Leasing Act of 1920;

(2) The 1976 coal amendments (30 U.S.C. 181 et seq.);

(3) The Mineral Leasing Act for Acquired Lands of 1947 (30 U.S.C. 351-359);

(4) The Federal Land Policy and Management Act of 1976 (43 U.S.C. 1761 et seq.);

(5) The Surface Mining Control and Reclamation Act of 1977 (30 U.S.C. 1201 et seq.);

(6) The Multiple Mineral Development Act of 1954 (30 U.S.C. 521-531);

(7) The National Environmental Policy Act of 1969 (42 U.S.C. 4321 et seq.); and

(8) The Act of October 30, 1978 (92 Stat. 2073-2075).

BLM uses the information provided by the applicant(s) on BLM Forms 3400-12 and 3440-1 to determine if the applicant to lease or develop Federal coal is qualified to hold such a lease.

Burden Estimate Per Form: We estimate it takes 1 hour to complete Form 3400-12 and 21 hours for Form 3440-1 and is submitted quarterly, monthly, and annually to the BLM by the private sector.

The following chart lists non-form information collection requirements.

Public burden hours information collected | Number of actions per year | Public burden hours per action | Total annual public burden hours | Total annual public burden cost
a Coal Lease (Form 3400-12) | 10 | 1 | 10 | $378
b License to Mine (Form 3440-1) | 1 | 1 | 1 | 38
c 43 CFR subpart 3410; Exploration License | 21 | 24 | 504 | 19,051
d 43 CFR subpart 3420; Regional Coal Licensing | 1 | 25 | 25 | 945
e 43 CFR subpart 3422; Coal Lease Sales | 10 | 30 | 300 | 11,340
f 43 CFR subpart 3425; Leasing-On-Application | 8 | 308 | 2,464 | 93,139
g 43 CFR subpart 3427; Surface Owner Consent | 43 | 1 | 43 | 1,626
h 43 CFR subpart 3430; Preference Right Leasing | 1 | 800 | 800 | 30,240
i 43 CFR subpart 3432; Lease Modifications | 5 | 12 | 60 | 2,268
j 43 CFR subpart 3440; License to Mine | 1 | 21 | 21 | 794
k 43 CFR subpart 3452; Relinquishments | 4 | 18 | 72 | 2,722
l 43 CFR subpart 3453; Transfers, Assignments, and Subleases | 9 | 10 | 90 | 3,402
m 43 CFR subpart 3471; Coal Management Provisions and Limitations | 9 | 3 | 27 | 1,021
n 43 CFR subpart 3472; Special Leasing Qualifications | 10 | 3 | 30 | 1,134
o 43 CFR subpart 3474; Bonds | 141 | 8 | 1,128 | 42,639
p 43 CFR subpart 3481; General Provisions | 1 | 1 | 1 | 38
q 43 CFR subpart 3482; Exploration and Resource Recovery and Protection Plans | 460 | 21 | 9,660 | 365,148
r 43 CFR subpart 3483; Diligence Requirements | 7 | 21 | 147 | 5,557
s 43 CFR subpart 3484; Performance Standards | 19 | 1 | 19 | 718
t 43 CFR subpart 3485; Royalty Rate Reductions | 10 | 24 | 240 | 9,072
u 43 CFR subpart 3485; Exploration and Production Reporting | 457 | 16 | 7,312 | 276,394
v 43 CFR subpart 3486; Inspection, Enforcement, and Appeals | 5 | 4 | 20 | 756
w 43 CFR subpart 3487; Logical Mining Unit | 2 | 170 | 340 | 12,852
Total | 1,235 |  | 23,314 | 881,272

Annual Responses: 1,235.

Application Fee Per Response: $275 for 43 CFR 3410, $10 for 43 CFR 3440, and $55 for 43 CFR 3453.

Annual Burden Hours: 23,314.

Dated: January 11, 2007.
Ted R. Hudson,
Bureau of Land Managment, Acting Division Chief Regulatory Affairs.

[FR Doc. 07-165 Filed 1-17-07; 8:45 am]

BILLING CODE 4310-84-M